DEPARTMENT OF TRANSPORTATION

Federal Aviation Administration

14 CFR Part 71

[Docket No. FAA-2015-3771; Airspace Docket No. 15-ANM-28]

Establishment of Class E Airspace, South Bend, WA

AGENCY: Federal Aviation Administration (FAA), DOT.

ACTION: Final rule, correction.

SUMMARY: This action corrects administrative errors in a final rule published in the Federal Register of March 8, 2016, that establishes Class E airspace at Willapa Harbor Heliport, South Bend, WA, by amending the assigned paragraph for rule incorporation within FAA Order 7400.9Z, by correcting format errors in the text header of the airspace legal description, and by correcting inconsistent airport name information in the airspace legal description. These changes do not affect the boundaries or operating requirements of the airspace.

DATES: Effective 0901 UTC, May 26, 2016. The Director of the Federal Register approves this incorporation by reference action under Title 1, Code of Federal Regulations, part 51, subject to the annual revision of FAA Order 7400.9 and publication of conforming amendments.

FOR FURTHER INFORMATION CONTACT: Tom Clark, Federal Aviation Administration, Operations Support Group, Western Service Center, 1601 Lind Avenue SW., Renton, WA 98057; Telephone: (425) 203-4511.

SUPPLEMENTARY INFORMATION:

History

The FAA published a final rule in the Federal Register establishing Class E airspace extending upward from 700 feet above the surface at Willapa Harbor Heliport, South Bend, WA (81 FR 12001 March 8, 2016) Docket No. FAA-2015-3771. Subsequent to publication the FAA identified errors in the assigned paragraph for incorporation, text header format, and airport name information. This action corrects the errors.

Correction to Final Rule

Accordingly, pursuant to the authority delegated to me, in the Federal Register of March 8, 2016 (81 FR 12001) FR Doc. 2016-05059, Establishment of Class E airspace, South Bend, WA, is corrected as follows:

§ 71.1 [Amended]

On page 12002, column 1, line 17, remove “Paragraph 5000 Class D Airspace”, and add in its place “Paragraph 6005. Class E airspace Areas Extending Upward from 700 feet or more Above the Surface of the Earth.”

On page 12002, column 1, line 19 and 20, remove “ANM WA E5 Willapa Harbor Heliport, South Bend, WA [New]” and add in its place “ANM WA E5 South Bend, WA [New].”

On page 12002, column 1, lines 27, 28, 34 and 35, after the word `Harbor' add the word `Heliport'.

Issued in Seattle, Washington, on April 5, 2016.
Tracey Johnson,
Manager, Operations Support Group, Western Service Center.

[FR Doc. 2016-08395 Filed 4-12-16; 8:45 am]

BILLING CODE 4910-13-P